DEPARTMENT OF TRANSPORTATION

Federal Aviation Administration

Proposed Federal Aviation Administration Notice 8150.NTF, Non-Technical Standard Order (TSO) Functions(s) Integrated in a TSO Article

AGENCY: Federal Aviation Administration, DOT.

ACTION: Notice of availability and requests for public comment.

SUMMARY: This notice announces the availability of and requests comments on proposed Federal Aviation Administration (FAA) Notice 8150.NTF, Non-TSO Functions(s) Integrated in a TSO Article. The proposed notice will replace FAA Order 8150.1B, Technical Standard Order Program, Paragraph 17d(3), dated May 12, 2002. The proposed notice provides guidance to Aircraft Certification Field Offices personnel on the appropriate means to evaluate a non-TSO function a manufacturer might integrate into a TSO article.

DATES: Submit comments on or before June 30, 2005.

ADDRESSES: Send all comments on proposed FAA Notice 8150.NTF to: Federal Aviation Administration, Aircraft Certification Service, Aircraft Engineering Division, Room 815, 800 Independence Avenue, SW., Washington, DC 20591. Attn. Mr. Richard Jennings, AIR-130. Or deliver comments to: Federal Aviation Administration, Room 815, 800 Independence Avenue, SW., Washington, DC 20591.

FOR FURTHER INFORMATION CONTACT: Mr. Richard Jennings, Senior Aerospace Engineer, Federal Aviation Administration, Aircraft Certification Service, Aircraft Engineering Division, Avionic Systems Branch, AIR-130, 1895 Phoenix Blvd., Suite 450, Atlanta, GA 30349. Telephone (770) 703-6090, fax (770) 703-6055. E-mail richard.jennings@faa.gov

SUPPLEMENTARY INFORMATION:

Comments Invited

Submit written data, views, or arguments on the proposed notice to the above-specified address. Your comments should stipulate “Comments to proposed FAA Notice 8150.NTF.” You may examine comments before and after the comment closing date by visiting Room 815, FAA Headquarters Building, 800 Independence Avenue, SW., Washington, DC, weekdays except Federal holidays, between 8:30 a.m. and 4:30 p.m. The Director, Aircraft Certification Service, will consider all comments received on or before the closing date before issuing the final Notice.

Background

FAA Order 8150.1B, Paragraph 17d(3), as currently written, allows for the incorporation of a non-TSO function in a TSO article, but stipulates the non-TSO safety and performance functions be evaluated under the appropriate airworthiness certification procedures during the installation process. However, that process permits the design data package granting the “host” TSO authorization to contain the non-TSO function design data package, without assuring the required performance of the hosting TSO article is unaffected by the added non-TSO function.

Deferring the evaluation of the non-TSO function until installation is not ideal, since the installer generally does not have the TSO manufacturer's equipment or expertise available to perform a thorough equipment performance evaluation, especially when the performance must be determined by laboratory simulation or under specific test conditions. In the proposed notice, we bring greater scrutiny to integrated non-TSO functions into the host TSO by providing guidance to the Aircraft Certification Office (ACO) for the consistent performance evaluation of the non-TSO function at the time of TSO authorization issuance. Note also, as with the TSO article itself, the integrated non-TSO function must have separate FAA approval for installation in an aircraft. Thus, this proposed notice allows the ACO to acknowledge the software and hardware design assurance levels and environmental testing accomplished on the non-TSO function, precluding the need for repeated evaluations at each installation approval.

How To Obtain Copies

You can get a copy of proposed FAA Notice 8150.NTF and Order 8150.1B from the FAA's Regulatory and Guidance Library (RGL) at http://www.airweb.faa.gov/rgl. On the RGL Web site, click on “Orders/Notices”. Or, contact the person listed in the section titled FOR FURTHER INFORMATION CONTACT.

Issued in Washington, DC, on May 24, 2005.
Susan J.M. Cabler,
Assistant Manager, Aircraft Engineering Division, Aircraft Certification Service.

[FR Doc. 05-10719 Filed 5-27-05; 8:45 am]

BILLING CODE 4910-13-M